POSTAL SERVICE

39 CFR Part 111

Extra Services Refund Time Limit

AGENCY: Postal Service™.

ACTION: Final rule.

SUMMARY: The Postal Service is amending Mailing Standards of the United States Postal Service, Domestic Mail Manual (DMM®) to revise the time limit for extra service refunds.

DATES: Effective Date: April 5, 2021.

FOR FURTHER INFORMATION CONTACT: Sheila Marano at (202) 268-4257, Adaisja Johnson at (202) 268-6724, or Garry Rodriguez at (202) 268-7281.

SUPPLEMENTARY INFORMATION: On May 14, 2020, the Postal Service published a notice of proposed rulemaking (85 FR 28917-28918) to revise the time limit for extra service refunds on all classes of mail except Priority Mail Express®. The Postal Service elected to issue a second revised proposed rule on January 7, 2021, (86 FR 1080-1081) that included revising the timelines for Priority Mail Express with an extra service. One formal response was received as follows:

Comment: The commenter requested the time limit for extra service refunds be revised on all classes of mail except Priority Mail Express.

USPS Response: The Postal Services believes this revision to extend the time limits for filing a refund for all classes of mail will provide consistency within the refund policy.

Currently, DMM Exhibit 604.9.2.1, Postage and Fees Refunds, provides that for Priority Mail Express with an extra service a customer must apply for an extra service refund no sooner than 10 days, or no later than 30 days, and for all other classes of mail with an extra service a customer must apply for an extra service refund no sooner than 10 days, or no later than 60 days, from the date the service was purchased.

Certain extra services (e.g., Certified Mail®) have workflow timelines that extend beyond the current 10-day limit to initially file for a refund. As a result, to meet the required workflow timelines for these extra services, and for consistency in application of the refund processes, the Postal Service is extending the current Priority Mail Express with an extra service timeline to no sooner than 30 days, or no later than 60 days. For all other classes of mail with an extra service, the 10-day time limit will be extended to a 30-day time limit before a customer can file for a refund.

We believe this revision will provide customers with a more efficient process and a more consistent customer experience.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.2 Postage and Fee Refunds

* * * * *

9.2.1 General Standards

* * * * *

Exhibit 9.2.1 Postage and Fees Refunds

Customers must apply for a refund within the time limits in the chart below.

Mail type or service | When to apply (from mailing date): No sooner than | When to apply (from mailing date): No later than
* * * * * * *
[Revise the text of the “Priority Mail Express with an Extra Service” line item to read as follows:]
Priority Mail Express with an Extra Service(s) (9.2.4h) | 30 days | 60 days.
* * * * * * *
[Revise the text of the “Extra Services” line item to read as follows:]
All other classes of mail with an Extra Service or Extra Services (9.2.4h) | 30 days | 60 days.
* * * * * * *

9.2.4 Postage and Fee Refunds Not Available

Refunds are not made for the following:

* * * * *

[Revise the text of item h to read as follows:]

h. Fees paid for extra services, as allowed under 9.2.3, when refund request is made by the mailer less than 30 days, or more than 60 days, from the date the service was purchased, unless otherwise authorized by the manager, Revenue and Field Accounting (see 608.8.0 for address).

* * * * *

9.5 Priority Mail Express Postage and Fees Refunds

* * * * *

9.5.4 Conditions for Refund

A postage refund request, as allowed under 9.0, must be made within the timelines provided in Exhibit 9.2.1.

* * * * *

Joshua J. Hofer,
Attorney, Ethics and Legal Compliance.

[FR Doc. 2021-03406 Filed 2-23-21; 8:45 am]

BILLING CODE P